DEPARTMENT OF THE INTERIOR

Bureau of Ocean Energy Management

[Docket No. BOEM-2012-0083]

Potential Commercial Leasing for Wind Power on the Outer Continental Shelf (OCS) Offshore New York, Request for Interest

AGENCY: Bureau of Ocean Energy Management (BOEM), Interior.

ACTION: Public notice of an unsolicited request for a commercial OCS wind lease, request for interest, and request for public comment.

SUMMARY: The purpose of this public notice is to: (1) Describe the proposal submitted to BOEM by the New York Power Authority (NYPA) to acquire an OCS wind lease; (2) solicit public input regarding the proposal, its potential environmental consequences, and the use of the area in which the proposed project would be located; and (3) solicit submissions of indications of competitive interest for a commercial lease for wind energy development on the OCS offshore New York for the area identified in this notice.

On September 8, 2011, BOEM received an unsolicited request from NYPA for a commercial wind lease on the OCS offshore New York. NYPA submitted its request on behalf of the “Long Island-New York City Offshore Wind Collaborative,” a public-private entity consisting of NYPA, the Long Island Power Authority, and Consolidated Edison Company of New York, Inc. The Collaborative's goal is to develop the proposed project to supply the Long Island and New York City region with renewable energy, consistent with New York State's and the City of New York's renewable energy initiatives. NYPA's proposed project, the “Long Island-New York City Offshore Wind Project”, is designed to generate at least 350 megawatts (MW) of electricity from offshore wind resources, with the ability to expand generation capacity to as much as 700 MW. The project would be located approximately 11 nautical miles (nmi) south of Long Beach, New York, in water depths ranging from 60 to 120 feet. NYPA's unsolicited lease request, and an amendment filed on June 20, 2012, can be viewed at: http://www.boem.gov/Renewable-Energy-Program/State-Activities/New-York.aspx.

This request for interest is published pursuant to subsection 8(p)(3) of the OCS Lands Act, as amended by section 388 of the Energy Policy Act of 2005 (EPAct) (43 U.S.C. 1337(p)(3)), and the implementing regulations at 30 CFR 585.231(b). Subsection 8(p)(3) of the OCS Lands Act requires that OCS renewable energy leases, easements, and rights-of-way be issued “on a competitive basis unless the Secretary determines after public notice of a proposed lease, easement, or right-of-way that there is no competitive interest.” This request for interest provides such public notice for the proposed lease area requested by NYPA and invites the submission of indications of competitive interest. BOEM will consider the responses to this public notice to determine whether competitive interest exists for the area requested by NYPA, as required by 43 U.S.C. 1337(p)(3). Parties wishing to obtain a lease for the area requested by NYPA should submit detailed and specific information as described in the section entitled, “Required Indication of Interest Information.”

This announcement also requests that interested and affected parties comment and provide information about site conditions and multiple uses within the area identified in this notice that would be relevant to the proposed project or its impacts. A detailed description of the proposed lease area can be found in the section of this notice entitled, “Description of the Area.”

DATES: If you are submitting an indication of interest in acquiring a lease for the area proposed by NYPA, your submission must be sent by mail, postmarked no later than March 5, 2013 for your submission to be considered. If you are providing comments or other submissions of information, you may send them by mail, postmarked by this same date, or you may submit them through the Federal eRulemaking Portal at http://www.regulations.gov, also by this same date.

Submission Procedures: If you are submitting an indication of competitive interest for a lease, please submit it by mail to the following address: Bureau of Ocean Energy Management, Office of Renewable Energy Programs, 381 Elden Street, HM 1328, Herndon, Virginia 20170. Submissions must be postmarked by March 5, 2013 to be considered by BOEM for the purposes of determining competitive interest. In addition to a paper copy of your submission, include an electronic copy; BOEM considers an Adobe PDF file stored on a compact disk (CD) to be an acceptable format for submitting an electronic copy. BOEM will list the parties that submit indications of competitive interest on the BOEM Web site after the 60-day comment period has closed.

If you are submitting comments or other information concerning the proposed lease area, you may use either of the following two methods:

1. Federal eRulemaking Portal: http://www.regulations.gov. In the entry titled “Enter Keyword or ID,” enter BOEM-2012-0083, and then click “search.” Follow the instructions to submit public comments and view supporting and related materials available for this notice.

2. Alternatively, comments may be submitted by mail to the following address: Bureau of Ocean Energy Management, Office of Renewable Energy Programs, 381 Elden Street, HM 1328, Herndon, Virginia 20170.

If you wish to protect the confidentiality of your submissions or comments, clearly mark the relevant sections and request that BOEM treat them as confidential. Please label privileged or confidential information “Contains Confidential Information” and consider submitting such information as a separate attachment. Treatment of confidential information is addressed in the section of this notice entitled “Privileged or Confidential Information.” BOEM will post all comments on regulations.gov unless labeled as confidential. Information that is not labeled as privileged or confidential will be regarded by BOEM as suitable for public release.

FOR FURTHER INFORMATION CONTACT: Dr. Andrew Krueger, Renewable Energy Program Specialist, BOEM, Office of Renewable Energy Programs, 381 Elden Street, HM 1328, Herndon, Virginia 20170, (703) 787-1320.

SUPPLEMENTARY INFORMATION:

Purpose of the Request for Interest

Responses to this public notice will allow BOEM to determine, pursuant to 30 CFR 585.231, whether or not there is competitive interest in acquiring an OCS commercial wind lease in the area requested by NYPA. In addition, this notice provides an opportunity for interested stakeholders to comment on the proposed lease area and the proposed project and any potential impacts the project may have.

If, in response to this notice, BOEM receives one or more indications of competitive interest for offshore wind energy development from qualified entities that wish to compete for the proposed lease area, BOEM may decide to move forward with the lease issuance process using competitive procedures pursuant to 30 CFR part 585. If BOEM receives no competing indications of interest, BOEM may decide to move forward with the lease issuance process using the non-competitive procedures contained in 30 CFR part 585.

If BOEM decides to proceed with issuing a lease in the proposed lease area, whether competitively or non-competitively, it may provide the public with additional opportunities to provide input pursuant to 30 CFR part 585 and applicable laws, such as the National Environmental Policy Act (NEPA). BOEM's competitive and noncompetitive leasing processes are described in 30 CFR part 585, subpart B.

Determination of Competitive Interest and Leasing Process

After the publication of this announcement, BOEM will evaluate indications of competitive interest for the area requested by NYPA for acquiring a commercial lease on the OCS. At the conclusion of the comment period for this public notice, BOEM will review the submissions received and undertake a completeness review for each of those submissions and a qualifications review for each of the nominating entities. BOEM will then make a determination as to whether competitive interest exists.

If BOEM determines that there is no competitive interest in the proposed lease area, it will publish in the Federal Register a notice that there is no competitive interest. At that point, BOEM may decide to proceed with the noncompetitive lease issuance process pursuant to 30 CFR 585.231, and NYPA would be required to submit any required plan(s). Whether following competitive or non-competitive procedures, BOEM will consult with the intergovernmental Task Force and will comply with all applicable requirements before making a decision on whether or not to issue a lease and approve, disapprove, or approve with modifications any associated plan(s). BOEM would coordinate and consult, as appropriate, with relevant Federal agencies, affected tribes, and affected state and local governments, in issuing a lease and developing lease terms and conditions.

Description of the Proposed Lease Area

The proposed lease area is located off the coast of Long Island, New York, beginning approximately 11 nmi south of Long Beach, New York. From its western edge, the area extends approximately 26 nmi southeast at its longest portion. The project area consists of 5 full OCS blocks and 19 partial OCS blocks. The entire area is approximately 127 square miles; 81,130 acres; or 32,832 hectares. Table 1 describes the OCS lease sub-blocks included within the area of interest.

The proposed lease area is located between two Traffic Separation Schemes (TSS) for vessels transiting into and out of the Port of New York and New Jersey. Because of its close proximity to shipping lanes, the U.S. Coast Guard recommended that a buffer zone—a minimum 1 nmi setback line from the adjacent TSS—be applied to the area. BOEM has adopted this recommendation and, for purposes of this request for interest, will not consider for leasing those aliquots between an adjacent TSS and the 1 nmi setback. However, BOEM is including aliquots that are transected by the setback line. No structures will be installed above the seabed on portions of those aliquots located within the setback.

Table 1—List of OCS Blocks Included in the Request for Interest
Protraction name | Protraction No. | Block No. | Sub block
New York | NK 18-12 | 6655 | F,G,H,K,L,P.
New York | NK 18-12 | 6656 | I,J,K,L,M,N,O,P.
New York | NK 18-12 | 6657 | M,N,O,P.
New York | NK 18-12 | 6706 | B,C,D,H.
New York | NK 18-12 | 6707 | A,B,C,D,E,F,G,H,J,K,L,P.
New York | NK 18-12 | 6708 | A,B,C,D,E,F,G,H,I,J,K,L,M,N,O,P.
New York | NK 18-12 | 6709 | E,F,G,H,I,J,K,L,M,N,O,P.
New York | NK 18-12 | 6710 | I,J,K,L,M,N,O,P.
New York | NK 18-12 | 6711 | M,N,O,P.
New York | NK 18-12 | 6712 | M.
New York | NK 18-12 | 6758 | A,B,C,D,G,H.
New York | NK 18-12 | 6759 | A,B,C,D,E,F,G,H,I,J,K,L,O,P.
New York | NK 18-12 | 6760 | A,B,C,D,E,F,G,H,I,J,K,L,M,N,O,P.
New York | NK 18-12 | 6761 | A,B,C,D,E,F,G,H,I,J,K,L,M,N,O,P.
New York | NK 18-12 | 6762 | A,B,C,D,E,F,G,H,I,J,K,L,M,N,O,P.
New York | NK 18-12 | 6763 | A,C,D,E,F,G,H,I,J,K,L,M,N,O,P.
New York | NK 18-12 | 6764 | A,E,F,G,H,I,J,K,M,N.
New York | NK 18-12 | 6810 | A,B,C,D,G,H,L.
New York | NK 18-12 | 6811 | A,B,C,D,E,F,G,H,I,J,K,L,O,P.
New York | NK 18-12 | 6812 | A,B,C,D,E,F,G,H,I,J,K,L,M,N,O,P.
New York | NK 18-12 | 6813 | A,B,C,D,E,F,G,H,I,J,M,N.
New York | NK 18-12 | 6814 | A.
New York | NK 18-12 | 6862 | A,B,C,D,E,F,G,H,K.
New York | NK 18-12 | 6863 | A.

The boundary of the proposed lease area follows the points listed in Table 2 in clockwise order. Point numbers 1 and 73 are the same. Coordinates are provided in X, Y (eastings, northings) UTM Zone 18N, NAD 83 and geographic (longitude, latitude), NAD83.

Table 2—List of Boundary Points Included in the Request for Interest
Point No. | X (Easting) | Y (Northing) | Longitude | Latitude
1 | −73.628463 | 40.394074 | 616400 | 4472400
2 | −73.586057 | 40.393563 | 620000 | 4472400
3 | −73.586283 | 40.382755 | 620000 | 4471200
4 | −73.529751 | 40.382050 | 624800 | 4471200
5 | −73.529986 | 40.371243 | 624800 | 4470000
6 | −73.473466 | 40.370510 | 629600 | 4470000
7 | −73.473710 | 40.359703 | 629600 | 4468800
8 | −73.417200 | 40.358943 | 634400 | 4468800
9 | −73.417453 | 40.348137 | 634400 | 4467600
10 | −73.360955 | 40.347350 | 639200 | 4467600
11 | −73.361217 | 40.336543 | 639200 | 4466400
12 | −73.304730 | 40.335729 | 644000 | 4466400
13 | −73.305001 | 40.324922 | 644000 | 4465200
14 | −73.234407 | 40.323866 | 650000 | 4465200
15 | −73.234688 | 40.313060 | 650000 | 4464000
16 | −73.178225 | 40.312184 | 654800 | 4464000
17 | −73.178515 | 40.301379 | 654800 | 4462800
18 | −73.164402 | 40.301155 | 656000 | 4462800
19 | −73.164109 | 40.311961 | 656000 | 4464000
20 | −73.121764 | 40.311281 | 659600 | 4464000
21 | −73.122063 | 40.300476 | 659600 | 4462800
22 | −73.079726 | 40.299780 | 663200 | 4462800
23 | −73.080032 | 40.288975 | 663200 | 4461600
24 | −73.094142 | 40.289209 | 662000 | 4461600
25 | −73.094446 | 40.278403 | 662000 | 4460400
26 | −73.108554 | 40.278635 | 660800 | 4460400
27 | −73.108855 | 40.267830 | 660800 | 4459200
28 | −73.122961 | 40.268059 | 659600 | 4459200
29 | −73.123259 | 40.257254 | 659600 | 4458000
30 | −73.137363 | 40.257482 | 658400 | 4458000
31 | −73.137659 | 40.246676 | 658400 | 4456800
32 | −73.165863 | 40.247127 | 656000 | 4456800
33 | −73.166446 | 40.225515 | 656000 | 4454400
34 | −73.180544 | 40.225738 | 654800 | 4454400
35 | −73.180833 | 40.214932 | 654800 | 4453200
36 | −73.194928 | 40.215153 | 653600 | 4453200
37 | −73.195215 | 40.204347 | 653600 | 4452000
38 | −73.209308 | 40.204566 | 652400 | 4452000
39 | −73.209593 | 40.193760 | 652400 | 4450800
40 | −73.223684 | 40.193977 | 651200 | 4450800
41 | −73.223402 | 40.204783 | 651200 | 4452000
42 | −73.251589 | 40.205212 | 648800 | 4452000
43 | −73.251033 | 40.226825 | 648800 | 4454400
44 | −73.279230 | 40.227248 | 646400 | 4454400
45 | −73.278957 | 40.238054 | 646400 | 4455600
46 | −73.321260 | 40.238676 | 642800 | 4455600
47 | −73.320993 | 40.249482 | 642800 | 4456800
48 | −73.335097 | 40.249686 | 641600 | 4456800
49 | −73.334832 | 40.260493 | 641600 | 4458000
50 | −73.363044 | 40.260895 | 639200 | 4458000
51 | −73.362783 | 40.271702 | 639200 | 4459200
52 | −73.391001 | 40.272098 | 636800 | 4459200
53 | −73.390744 | 40.282905 | 636800 | 4460400
54 | −73.418967 | 40.283294 | 634400 | 4460400
55 | −73.418715 | 40.294101 | 634400 | 4461600
56 | −73.446942 | 40.294484 | 632000 | 4461600
57 | −73.446695 | 40.305291 | 632000 | 4462800
58 | −73.474927 | 40.305667 | 629600 | 4462800
59 | −73.474684 | 40.316474 | 629600 | 4464000
60 | −73.488802 | 40.316659 | 628400 | 4464000
61 | −73.488561 | 40.327467 | 628400 | 4465200
62 | −73.516803 | 40.327832 | 626000 | 4465200
63 | −73.516567 | 40.338640 | 626000 | 4466400
64 | −73.544814 | 40.338999 | 623600 | 4466400
65 | −73.544582 | 40.349806 | 623600 | 4467600
66 | −73.572834 | 40.350159 | 621200 | 4467600
67 | −73.572606 | 40.360966 | 621200 | 4468800
68 | −73.600863 | 40.361312 | 618800 | 4468800
69 | −73.600639 | 40.372119 | 618800 | 4470000
70 | −73.614770 | 40.372290 | 617600 | 4470000
71 | −73.614549 | 40.383098 | 617600 | 4471200
72 | −73.628682 | 40.383266 | 616400 | 4471200
73 | −73.628463 | 40.394074 | 616400 | 4472400

Map of the Area

A map of the area proposed by NYPA and the area included in this request for interest can be found at the following URL: http://www.boem.gov/Renewable-Energy-Program/State-Activities/New-York.aspx. A large scale map of the proposed lease area showing boundaries of the area with the numbered blocks is available from BOEM at the following address: Bureau of Ocean Energy Management, Office of Renewable Energy Programs, 381 Elden Street, HM 1328, Herndon, Virginia 20170, Phone: (703) 787-1320, Fax: (703) 787-1708.

Department of Defense Activities and Stipulations

The Department of Defense (DOD) conducts offshore testing, training, and operations on the OCS and may request site specific stipulations in the proposed lease area. BOEM will consult with the DOD regarding potential issues concerning offshore testing, training, and operational activities, and will develop appropriate stipulations to mitigate the effects of wind turbines on these activities in the proposed lease area.

Required Indication of Interest Information

If you intend to submit an indication of competitive interest for a lease for the area identified in this notice, you must provide the following:

(1) A statement that you wish to acquire a commercial wind lease within the proposed lease area. For BOEM to consider your indication of interest, it must include a proposal for a commercially viable wind power project of at least 350 MW nameplate capacity within the proposed lease area. Any request for a commercial wind lease located outside of the proposed lease area should be submitted separately pursuant to 30 CFR 585.230;

(2) A general description of your objectives and the facilities that you would use to achieve those objectives;

(3) A general schedule of proposed activities, including those leading to commercial operations;

(4) Available and pertinent data and information concerning renewable energy resources and environmental conditions in the area that you wish to lease, including energy and resource data and information used to evaluate the area of interest. Where applicable, spatial information should be submitted in a format compatible with ArcGIS 9.3 in a geographic coordinate system (NAD 83);

(5) Documentation demonstrating that you are legally qualified to hold a lease as set forth in 30 CFR 585.106 and 107. Examples of the documentation appropriate for demonstrating your legal qualifications and related guidance can be found in Chapter 2 and Appendix B of the Guidelines for the Renewable Energy Framework Guide Book available at: http://www.boem.gov/Renewable-Energy-Program/Regulatory-Information/Index.aspx. Legal qualification documents will be placed in an official file that may be made available for public review. If you wish that any part of your legal qualification documentation be kept confidential, clearly identify what should be kept confidential, and submit it under separate cover (see “Protection of Privileged or Confidential Information Section”, below); and

(6) Documentation demonstrating that you are technically and financially capable of constructing, operating, maintaining and decommissioning the facilities described in (2) above. Guidance regarding the documentation that could be used to demonstrate your technical and financial qualifications can be found at: http://www.boem.gov/Renewable-Energy-Program/Regulatory-Information/Index.aspx. If you wish that any part of your technical and financial qualification documentation be kept confidential, clearly identify what should be kept confidential, and submit it under separate cover (see “Protection of Privileged or Confidential Information Section”, below).

Your complete submission, including the items identified in (1) through (6) above, must be provided to BOEM in both paper and electronic formats. BOEM considers an Adobe PDF file stored on a CD to be an acceptable format for submitting an electronic copy.

It is critical that you provide a complete submission of competitive interest so that BOEM may consider your submission in a timely manner. If BOEM reviews your submission and determines that it is incomplete, BOEM will inform you of this determination in writing and describe the information that BOEM needs from you in order for BOEM to deem your submission complete. You will be given 15 business days from the date of the letter to provide the information that BOEM found to be missing from your original submission. If you do not meet this deadline, or if BOEM determines your second submission is also insufficient, BOEM may deem your submission invalid. In such a case, BOEM would not consider your submission.

Requested Information From Interested or Affected Parties

BOEM is also requesting from the public and other interested or affected parties specific and detailed comments regarding the following:

(1) Geological and geophysical conditions (including bottom and shallow hazards) in the area described in this notice;

(2) Historic properties potentially affected by the construction of meteorological towers, the installation of meteorological buoys, or commercial wind development in the area identified in this notice;

(3) Multiple uses of the area described in this notice, including but not limited to navigation (commercial and recreational vessel usage); commercial and recreational fishing; recreational resources (e.g., dive sites, wildlife viewing areas, and scenic areas); aviation; other energy related development activities; scientific research; and utilities and communications infrastructure.

(4) Other relevant environmental information, including but not limited to fisheries; protected species and habitats; marine mammals; sea turtles; birds; bats; zooplankton; and archaeological resources.

(5) Socioeconomic information, such as demographics and employment, or information relevant to environmental justice considerations.

Protection of Privileged or Confidential Information

Freedom of Information Act

BOEM will protect privileged or confidential information that you submit as required by the Freedom of Information Act (FOIA). Exemption 4 of FOIA applies to trade secrets and commercial or financial information that you submit that is privileged or confidential. If you wish to protect the confidentiality of such information, clearly mark it and request that BOEM treat it as confidential. BOEM will not disclose such information, subject to the requirements of FOIA. Please label privileged or confidential information, “Contains Confidential Information,” and consider submitting such information as a separate attachment.

However, BOEM will not treat as confidential any aggregate summaries of such information or comments not containing such information. Additionally, BOEM will not treat as confidential: (1) The legal title of the nominating entity (for example, the name of your company); or (2) the geographic location of nominated facilities. Information that is not labeled as privileged or confidential will be regarded by BOEM as suitable for public release.

Section 304 of the National Historic Preservation Act (16 U.S.C. 470w-3(a))

BOEM is required, after consultation with the Secretary of the Interior, to withhold the location, character, or ownership of historic resources if it determines that disclosure may, among other things, cause a significant invasion of privacy, risk harm to the historic resources, or impede the use of a traditional religious site by practitioners. Tribal entities and other interested parties should designate such information that they wish to be held as confidential.

Dated: December 28, 2012.
Tommy P. Beaudreau,
Director, Bureau of Ocean Energy Management.

[FR Doc. 2012-31654 Filed 1-3-13; 8:45 am]

BILLING CODE 4310-MR-P